DEPARTMENT OF COMMERCE

National Oceanic and Atmospheric Administration

50 CFR Part 648

[Docket No. 150105004-5355-01]

RIN 0648-XE155

Fisheries of the Northeastern United States; Northeast Multispecies Fishery; Trip Limit Adjustment for the Common Pool Fishery

AGENCY: National Marine Fisheries Service (NMFS), National Oceanic and Atmospheric Administration (NOAA), Commerce.

ACTION: Temporary rule; inseason adjustment.

SUMMARY: This action increases the trip limit for Gulf of Maine cod for Northeast multispecies common pool vessels for the remainder of the 2015 fishing year. The regulations authorize the Regional Administrator to adjust the trip limits for common pool vessels in order to facilitate harvest of, or prevent exceeding, the pertinent common pool quotas during the fishing year. Increasing the trip limit is intended to provide additional fishing opportunities and help allow the common pool fishery to catch its allowable quota for this stock.

DATES: The trip limit increase is effective September 16, 2015, through April 30, 2016.

FOR FURTHER INFORMATION CONTACT: Liz Sullivan, Fishery Management Specialist, 978-282-8493.

SUPPLEMENTARY INFORMATION: The regulations at § 648.86(o) authorize the Regional Administrator (RA) to adjust the possession limits for common pool vessels in order to prevent the overharvest or underharvest of the common pool quotas. On June 15, 2015, we adjusted the possession and trip limit for Gulf of Maine (GOM) cod to zero for the remainder of the fishing year, out of an abundance of caution, to reduce the effort that had been directed on cod, to prevent the common pool from exceeding its Trimester 1 quota for the stock, and to avoid triggering the closure of portions of the Gulf of Maine, which is mandatory if 90 percent of the trimester quota is reached. Although the zero possession limit was set for the remainder of the fishing year, this does not prevent the RA from subsequently increasing it to prevent underharvest of the stock.

As of August 25, 2015, the common pool had caught approximately 31 percent of its sub-annual catch limit (ACL) of GOM cod. To allow the common pool fishery to catch more of its quota for this stock, effective September 16, 2015, the trip limit of GOM cod for all common pool vessels is increased from 0 lb per trip, to 25 lb (11.3 kg) per trip. Allowing landings of incidentally caught GOM cod up to 25 lb (11.3 kg) is projected to prevent overharvest while reducing discards.

Weekly quota monitoring reports for the common pool fishery can be found on our Web site at: http://www.greateratlantic.fisheries.noaa.gov/ro/fso/MultiMonReports.htm. We will continue to monitor common pool catch through vessel trip reports, dealer-reported landings, vessel monitoring system catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The regulations at § 648.86(o) authorize the RA to adjust the Northeast multispecies possession and trip limits for common pool vessels in order to prevent the overharvest or underharvest of the pertinent common pool sub-ACLs. The catch data used to justify increasing the possession and trip limit for GOM cod only recently became available. The possession and trip limit increase implemented through this action allows for increased harvest of GOM cod, to help ensure that the fishery may achieve the optimum yield (OY) for this stock. As a result, the time necessary to provide for prior notice and comment, and a 30-day delay in effectiveness, would prevent us from increasing the possession and trip limit for GOM cod in a timely manner, which could prevent the fishery from achieving the OY. This would undermine management objectives of the Northeast Multispecies Fishery Management Plan and cause unnecessary negative economic impacts to the common pool fishery. There is additional good cause to waive the delayed effective period because this action relieves restrictions on fishing vessels by increasing a trip limit.

Authority: 16 U.S.C. 1801 et seq.

Dated: September 11, 2015.
Emily H. Menashes,
Acting Director, Office of Sustainable Fisheries, National Marine Fisheries Service.

[FR Doc. 2015-23277 Filed 9-15-15; 8:45 am]

BILLING CODE 3510-22-P